NATIONAL AERONAUTICS AND SPACE ADMINISTRATION

48 CFR Parts 1835 and 1852

RIN 2700-AC64

Research and Development Abstracts

AGENCY: National Aeronautics and Space Administration (NASA).

ACTION: Proposed rule.

SUMMARY: This is a proposed rule to amend the NASA FAR Supplement (NFS) to include a requirement for the electronic submission of abstracts of the planned research to be conducted under contracts containing research and development (R&D) effort valued at over $25,000. This requirement is being established to support NASA's implementation of section 207(g) of the E-Government Act of 2002 that mandates the development and maintenance of a repository that integrates information on research and development funded by the Federal Government. This proposed rule would help improve access to information on NASA funded research and development activities, thus providing public and private research managers improved capability for R&D program planning.

DATES: Comments should be submitted on or before December 30, 2003.

ADDRESSES: Interested parties should submit written comments to Thomas Sauret, NASA Headquarters, Office of Procurement, Contract Management Division (Code HK), Washington, DC 20546. Comments may also be submitted by e-mail to: Thomas.E.Sauret@nasa.gov.

Comments that concern information collection requirements must be sent to the Office of Management and Budget at the address listed in the Paperwork Reduction Act section of this document. A copy of those comments may also be sent to the Agency representative named in the preceding paragraph.

FOR FURTHER INFORMATION CONTACT: Thomas Sauret, Code HK, (202) 358-1068, e-mail: Thomas.E.Sauret@nasa.gov.

SUPPLEMENTARY INFORMATION:

A. Background

This proposed rule would add a new section 1835.003-70, NASA Research and Development (R&D) Abstracts, and a related clause, 1852.235-75, NASA Research and Development (R&D) Abstracts. The new clause provides for the collection of abstracts or summaries for NASA funded awards with R&D effort greater than $25,000. The requirements of section 207(g) of the E-Government Act of 2002 (Pub. L. 107-347) provide the basis for this change. Section 207(g) mandates the development and maintenance of a repository that integrates information on research and development funded by the Federal Government. In furtherance of that requirement, NASA has developed a Web-based database system to collect summaries or abstracts for all the Agency's procurements containing research and development effort valued over $25,000. For procurements that include a combination of R&D with other types of services and supplies, submission of an abstract would be required only when the value of the R&D portion of the acquisition exceeds $25,000. A NASA Web site (Abstract Collection and Transmittal System (ACTS), http://proposals.hq.nasa.gov/acts/) has been established for recipients of NASA R&D contracts to enter their abstract data. ACTS will transfer submitted abstracts to a government-wide database sponsored by the National Science Foundation (NSF). The NSF sponsored government-wide database is available to other agencies and to the public. NASA's ACTS database is designed only as a collection and transmittal tool and will not be open to the general public.

B. Regulatory Flexibility Act

This proposed rule is not expected to have a significant economic impact on a substantial number of small business entities within the meaning of the Regulatory Flexibility Act (5 U.S.C. 601, et. seq.), because the administrative costs associated with the one time submission of the R&D abstract is not expected to exceed the micro-purchase threshold and should be included in the contract price.

C. Paperwork Reduction Act of 1995

This proposed rule contains information collection requirements. As required by the Paperwork Reduction Act of 1995 (44 U.S.C. 3507 (d)), NASA has submitted a copy of the information collection requirements to the Office of Management and Budget (OMB) for its review and approval. OMB is required to make a decision concerning the collection of information contained in these proposed regulations between 30 and 60 days after publication of this document in the Federal Register. Therefore, a comment to OMB regarding this information collection is best assured of having its full effect if OMB receives it within 30 days of publication of this notice. This does not affect the deadline for the public to comment on the proposed regulations. All comments regarding this information collection should be sent to: Desk Officer for NASA; Office of Information and Regulatory Affairs, Office of Management and Budget, Room 10236, New Executive Office Building; Washington, DC 20503.

Collection of Information: NASA Research and Development Abstracts Collection

The public reporting and recordkeeping burden for this collection of information is estimated to be 1,500 hours. The estimated burden has been calculated as follows:

Responses | 3000
Hours per response | × 0.5 (30 min.)
Annual reporting burden | 1500 hours

The estimated number of responses shown above is the total number of NASA research-related contracts awards, as well as awards made through grants and agreements. This estimate reflects the combined paperwork clearance request the Agency is submitting to OMB.

List of Subjects in 48 CFR Parts 1835 and 1852

Government procurement.

Tom Luedtke,
Assistant Administrator for Procurement.

Accordingly, 48 CFR Parts 1835 and 1852 are proposed to be amended as follows:

1. The authority citation for 48 CFR Parts 1835 and 1852 continues to read as follows:

Authority: 42 U.S.C. 2473(c)(1).

PART 1835—RESEARCH AND DEVELOPMENT CONTRACTING

2. Section 1835.003-70 is added to read as follows:

1835.003-70 NASA Research and Development (R&D) Abstracts.

(a) The E-Government Act of 2002 (Pub. L. No. 107-347) mandates the development and maintenance of a repository that integrates information on research and development funded by the Federal Government. In support of that requirement, NASA will collect research abstracts and forward them to an appropriate central repository where they will be available for use by government agencies and other users.

(b) Information on R&D awards subject to the clause at 1852.235-75, NASA Research and Development (R&D) Abstracts, including contractor name and contract number, shall be automatically entered by NASA into the NASA R&D Abstract Collection and Transmittal System (ACTS) database on a monthly basis. The database may be accessed via the Web site listed in the clause. Contracting officers shall check the Web site to determine if the selected contractor is listed as an entity already registered in the ACTS database. If the contractor is registered, then no further action by the contracting officer is required. If the contractor is not already registered in ACTS, the contracting officer must obtain from their Center ACTS point of contact a new ACTS user identification and password for the selected contractor. The contracting officer shall provide the user identification and password to the contractor.

3. Section 1835.070 is amended by adding paragraph (f) to read as follows:

1835.070 NASA contract clauses and solicitation provision.

* * * * *

(f) The contracting officer shall insert the clause at 1852.235-75, NASA Research and Development (R&D) Abstracts, in all contracts that include research and development effort that exceeds $25,000. This requirement does not apply to intragovernmental transfers.

PART 1852—SOLICITATION PROVISIONS AND CONTRACT CLAUSES

4. Section 1852.235-75 is added to read as follows:

1852.235-75 NASA Research and Development (R&D) Abstracts.

As prescribed in 1835.070(f), insert the following clause:

NASA Research and Development (R&D) Abstracts

(XX/XX)

(a) The Contractor shall, within 60 days after award (or 30 days after the award information is entered into the NASA R&D Abstract Collection and Transmittal System (ACTS) database, whichever is later), enter a summary or abstract of the research and development activity to be conducted under this contract into the ACTS database. The database may be accessed at the following URL: http://proposals.hq.nasa.gov/acts/.

(b) The abstract should range from 250 to 500 words in length. The abstract will be made available to the public without restrictions; therefore, caution is advised against inclusion of any material for which dissemination in the public domain may be prohibited such as trade secrets, proprietary information or export controlled information.

(c) The abstract and other pertinent award information will be included in a database of R&D abstracts from across the Federal Government. The government-wide database will include abstracts and other information concerning awards, such as the dollar value and estimated completion date. The government-wide database will be accessible to other government agencies and private organizations and will allow entities to search the database for a variety of information regarding current research awards. The NASA ACTS database will not be searchable by the general public.

(d) Access to the NASA ACTS database requires user identification and a password to ensure that only authorized personnel enter abstract information. The Contracting Officer will provide instructions regarding user identification and password access if the Contractor does not already possess an ACTS identification and password.

[FR Doc. 03-27492 Filed 10-30-03; 8:45 am]

BILLING CODE 7510-01-P